DEPARTMENT OF TRANSPORTATION

Federal Aviation Administration

14 CFR Part 73

[Docket No. FAA-2018-0984; Airspace Docket No. 18-ASW-8]

RIN 2120-AA66

Expansion of R-3803 Restricted Area Complex; Fort Polk, LA

AGENCY: Federal Aviation Administration (FAA), DOT.

ACTION: Final rule.

SUMMARY: This action expands the R-3803 restricted area complex in central Louisiana by establishing four new restricted areas, R-3803C, R-3803D, R-3803E, and R-3803F, and makes minor technical amendments to the existing R-3803A and R-3803B legal descriptions for improved operational efficiency and administrative standardization. The restricted area establishments and amendments support U.S. Army Joint Readiness Training Center training requirements at Fort Polk for military units preparing for overseas deployment.

DATES: Effective date: 0901 UTC, September 13, 2019.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it establishes restricted area airspace at Fort Polk, LA, to enhance aviation safety and accommodate essential U.S. Army hazardous force-on-force and force-on-target training activities.

History

The FAA published a notice of proposed rulemaking for Docket No. FAA-2018-0984 in the Federal Register (83 FR 60382; November 26, 2018) establishing four new restricted areas, R-3803C, R-3803D, R-3803E, and R-3803F, and making minor technical amendments to the R-3803A and R-3803B descriptions for improved operational efficiency and administrative standardization in support of hazardous U.S. Army force-on-force and force-on-target training activities. Interested parties were invited to participate in this rulemaking effort by submitting written comments on the proposal. Two comments were received.

Discussion of Comments

While supportive of the U.S. Army's need to train as they fight, the first commenter noted that modern general aviation aircraft have longer flight endurance today, making timely NOTAM publication of restricted area activations necessary for effective flight planning. To overcome the possibility of the restricted areas being activated with no advance notification, the commenter recommended adding “at least 4 hours in advance” to the “By NOTAM” time of designation proposed for the R-3803A, R-3803C, and R-3803D restricted areas. Additionally, the commenter requested the effective date of the proposed restricted areas, if approved, coincide with the next update of the Houston Sectional Aeronautical Chart.

It is FAA policy that when NOTAMs are issued to activate special use airspace, the NOTAMs should be issued as far in advance as feasible to ensure the widest dissemination of the information to airspace users. The FAA acknowledges that the addition of the “at least 4 hours in advance” provision to the proposed “By NOTAM” time of designation, as recommended by the commenter, would contribute to ensuring the widest dissemination of the restricted areas being activated to effected airspace users. As such, the FAA adopts the commenter's recommendation to amend the time of designation for R-3803A, R-3803C, and R-3803D to reflect “By NOTAM issued at least 4 hours in advance.”

Additionally, the establishment of R-3803C, R-3803D, R-3803E, and R-3803F, and the minor technical amendments to the existing R-3803A and R-3803B legal descriptions are being made effective to coincide with the upcoming Houston Sectional Aeronautical Chart date.

The second commenter raised aerial access concerns of the area in which the new restricted areas were proposed to be established. The commenter stated restriction of the airspace would require many commercial forestry activities on private lands, traditionally accomplished through aerial application, to be done via ground application which would have a detrimental effect on a purported endangered Pine Snake habitat and render land owners unable to exercise their ownership or conduct timber management with traditional, cost effective methods. The commenter added that without aerial surveillance and fire suppression flights, timber and economic losses to fire, insect, and disease would increase. The commenter also argued that closure of the restricted area airspace would have an economic impact on Central and Southwest Louisiana by limiting commercial air traffic into Alexandria International Airport, LA.

The FAA considered the commenter's concerns and has determined aerial access to the private properties underlying the new restricted areas is unaffected by the establishment of the restricted areas. When the new restricted areas are active, aerial access to the underlying privately owned properties is provided by a 1,200-foot above ground level (AGL) exclusion area incorporated within restricted area R-3803D. The FAA believes this 1,200-foot AGL exclusion is adequate for non-participating aviation to perform commercial forestry activities, wildfire surveillance and suppression flights, and insect infestation detection and aerial spraying on the private lands noted by the commenters. This continued aerial access also mitigates the commenter's concerns associated with a detrimental effect on an endangered Pine Snake habitat, as well as land owners' abilities to exercise their land ownership or timber management actions with traditional, cost effective methods.

The remaining land that underlies restricted areas R-3803C and R-3803D is owned by the U.S. Army. Aerial access to that land, when the restricted areas are active, will be provided using the same processes and procedures that are in place today for accessing the land under the existing R-3803A.

Lastly, as part of the aeronautical study conducted by Houston Air Route Traffic Control Center (ARTCC), the FAA analyzed the impact to commercial air traffic into Alexandria International Airport, LA, as noted by the commenter. Houston ARTCC acknowledged instrument arrival and departure procedures into the Houston Terminal Area and Alexandria International Airport would be impacted slightly. However, the altitudes and times of use for the restricted areas will greatly mitigate any impact on these procedures. Additionally, the procedures are seldom used and if required the aircraft can be positively controlled away from the procedural routings, so the impact to these areas will be negligible. Houston ARTCC ultimately recommended approval and deemed the establishment of the four new restricted areas would not have an adverse impact on the commercial air traffic into Alexandria International Airport.

Military Operations Areas (MOA)

In the NPRM, the FAA acknowledged that the proposed R-3803C and R-3803D restricted areas, if established, would be designated within the existing Warrior 1 Low and Warrior 1 High Military Operations Areas (MOAs). To address potential airspace issues and confusion created if all special use airspace (SUA) areas were active at the same time, the FAA stated it would amend the legal descriptions of both MOAs to exclude that airspace within R-3803C and R-3803D when the restricted areas were activated.

MOAs are established to separate or segregate non-hazardous military flight activities from aircraft operating in accordance with instrument flight rules (IFR) and to advise pilots flying under visual flight rules (VFR) where these activities are conducted. IFR aircraft may be routed through an active MOA only by agreement with the using agency and only when air traffic control can provide approved separation from the MOA activity. VFR pilots are not restricted from flying in an active MOA but are advised to exercise caution while doing so. MOAs are nonregulatory airspace areas that are established or amended administratively and published in the National Flight Data Digest (NFDD) rather than through rulemaking procedures. When a nonrulemaking action is ancillary to a rulemaking action, FAA procedures allow for the nonrulemaking changes to be included in the rulemaking action. Since amendments to the Warrior 1 Low and Warrior 1 High MOAs descriptions are ancillary to the establishment of R-3803C and R-3803D, the MOA changes are addressed in this rule as well as being published in the NFDD.

The FAA circularized a proposal to make editorial amendments to the Warrior 1 Low and Warrior 1 High MOAs boundary descriptions, contingent upon R-3803C and R-3803D being established, to add language that excluded that airspace within R-3803C and R-3803D when the restricted areas were activated. Interested parties were invited to participate in this proposed nonrulemaking action by submitting written comments on the proposal. Two comments were received.

Both commenters raised the same concerns over restrictions to aerial access for forest landowners, loggers, and forest industry stakeholders. Specifically, the commenters argued the proposed MOA amendments restricted the ability to aerially detect wildfires, inspect for insect infestations, and treat forest lands with chemicals and fertilizers in the impact area. They contended the added costs of conducting forest management practices from only the ground would add substantial costs to their operations and be less effective, and that the economic loss caused by the MOA proposal to forestry, loggers, and the forest industry as well as revenue to the local and state economy would be considerable.

In response, the FAA offers that the external boundaries, altitudes, times of use, or activities to be conducted within the Warrior MOA complex remain the same with the inclusion of the proposed restricted area exclusion language amendments. Aerial access for forest landowners, loggers, and forest industry stakeholders within the amended MOAs would be unchanged when the new restricted areas are not activated. When the new restricted areas are activated, aerial access to the private properties would be provided by the 1,200-foot AGL exclusion area within R-3803D and support the continued aviation activities described by the commenters. For aerial access to the U.S. Army owned property underlying R-3803C and the portion of R-3803D that extends upward from the surface, it will be provided using the same processes and procedures that are in place today for nonparticipant aircraft to access the existing R-3803A. Since aerial access to the private and U.S. Army owned lands falling under the amended MOAs, R-3803C, and R-3803D will continue to be available for forest landowners, loggers, and forest industry stakeholders, the aerial forest management practices noted by the commenters will not be impacted and the economic loss or revenue impact concerns noted by the commenters mitigated.

As a result, the Warrior 1 Low and Warrior 1 High MOAs boundary descriptions are being amended to include language that excludes that airspace within R-3803C and R-3803D when the restricted areas are activated. These editorial amendments overcome any potential airspace confusion or conflict resulting from the overlapping restricted areas and MOAs being activated at the same time. Additionally, the amendments help inform nonparticipants when portions of the MOAs are not available due to hazardous activities being conducted in the overlapping restricted areas. The amended boundary descriptions for the MOAs will be published in the NFDD; the rest of the MOAs legal descriptions remain unchanged.

The Rule

This action amends Title 14 Code of Federal Regulations (14 CFR) part 73 by establishing four new restricted areas, R-3803C, R-3803D, R-3803E, and R-3803F, located south-southeast of the existing R-3803A and R-3803B restricted areas, supporting the Joint Readiness Training Center at Fort Polk, LA. The new restricted areas will support the U.S. Army conducting realistic force-on-force and force-on-target training employing longer-range surface-to-surface and air-to-surface munitions.

Of the new restricted areas, R-3803C and R-3803D will extend upward from the surface to but not including FL 180. Stacked above R-3803C, R-3803E will be established extending upward from FL 180 to but not including FL 350. Similarly, stacked above R-3803D, R-3803F will be established extending upward from FL 180 to but not including FL 350. The boundaries of the R-3803C and R-3803E restricted areas will match, as will the boundaries of the R-3803D and R-3803F restricted areas. However, there is an airspace cutout included in the R-3803D boundary description, extending upward from the surface to 1,200 feet AGL, to allow aerial access to the private land under the restricted area that the Army does not own or control.

Restricted areas R-3803C and R-3803D will be activated by NOTAM issued at least 4 hours in advance, with an anticipated usage of 18 hours per day approximately 320 days per year. The higher strata restricted areas, R-3803E and R-3803F, will be activated by NOTAM issued at least 24 hours in advance, with an anticipated usage of 8 hours per day approximately 20 days per year.

Lastly, a number of minor editorial and technical amendments to the existing R-3803A and R-3803B restricted area legal descriptions are being made. They include:

• The designated altitudes for R-3803A is changed from “Surface to FL 180” to “Surface to but not including FL 180.”

• The designated altitudes for R-3803B is changed from “FL 180 up to but not including FL 350” to “FL 180 to but not including FL 350.” This amendment was noted in the NPRM preamble to match the designated altitudes of the upper proposed restricted areas, listed as R-3803C and R-3803D in error. The correct upper proposed restricted areas that should have been listed are R-3803E and R-3803F. The regulatory text in the NPRM for the R-3803B, R-3803E, and R-3803F designated altitudes all matched with the correct proposed amendment information.

• The time of designation for R-3803A is changed from “Continuous” to “By NOTAM issued at least 4 hours in advance.”

• The time of designation for R-3803B is changed from “As activated by NOTAM issued at least 24 hours in advance” to “By NOTAM issued at least 24 hours in advance.”

• The using agency for R-3803A and R-3803B is changed from “Commanding General, Fort Polk, LA” to “U.S. Army, Joint Readiness Training Center, Fort Polk, LA.”

The new restricted areas R-3803C and R-3803D are designated within the existing Warrior 1 Low and Warrior 1 High Military Operations Areas (MOAs). To address potential airspace issues and confusion created when the restricted areas and MOAs are active at the same time, the FAA is taking action to amend both MOA legal descriptions to exclude that airspace within R-3803C and R-3803D when the restricted areas are activated.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of establishing four restricted areas, R-3803C, R-3803D, R-3803E, and R-3803F, located south southeast of the R-3803 restricted area complex at Fort Polk, LA, qualifies for FAA adoption in accordance with FAA Order 1050.1F, paragraph 8-2, Adoption of Other Agencies' National Environmental Policy Act Documents, and FAA Order 7400.2M, paragraph 32-2-3 (Special Use Airspace). After conducting an independent review and evaluation of the U.S. Army's Joint Readiness Training Center, Fort Polk, Louisiana, Final Environmental Assessment for the Expansion Of Restricted Area Complex Airspace R-3803 (March 2019) and Finding Of No Significant Impact, the FAA has determined that the Army's EA and its supporting documentation adequately assesses and discloses the environmental impacts of the proposed action, including establishment of restricted areas R-3803C, R-3803D, R-3803E, and R-3803F. Based on the evaluation in the Army's EA, the FAA, as a Cooperating Agency, concluded that the Army's EA qualifies for adoption by FAA, and that the FAA's adoption of the Army's EA for the expansion of the R-3803 restricted area complex in central Louisiana by establishing four new restricted areas, R-3803C, R-3803D, R-3803E, and R-3803F is authorized in accordance with 40 CFR 1506.3, Adoption. Accordingly, FAA adopts the Army's EA and takes full responsibility for the scope and content that addresses the FAA's actions associated with the establishment of the additional restricted areas.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.38 Louisiana [Amended]

2. § 73.38 is amended as follows:

R-3803A Fort Polk, LA [Amended]

Boundaries. Beginning at lat. 31°23′37″ N, long. 93°09′58″ W; to lat. 31°23′13″ N, long. 93°09′49″ W; to lat. 31°22′01″ N, long. 93°10′06″ W; to lat. 31°19′17″ N, long. 93°11′11″ W; to lat. 31°19′17″ N, long. 93°20′16″ W; to lat. 31°24′31″ N, long. 93°20′16″ W; to lat. 31°24′31″ N, long. 93°16′43″ W; to lat. 31°23′36″ N, long. 93°13′25″ W; to the point of beginning.

Designated altitudes. Surface to but not including FL 180.

Time of designation. By NOTAM issued at least 4 hours in advance.

Controlling agency. FAA, Houston ARTCC.

Using agency. U.S. Army, Joint Readiness Training Center, Fort Polk, LA.

R-3803B Fort Polk, LA [Amended]

Boundaries. Beginning at lat. 31°23′37″ N, long. 93°09′58″ W; to lat. 31°23′13″ N, long. 93°09′49″ W; to lat. 31°22′01″ N, long. 93°10′06″ W; to lat. 31°19′17″ N, long. 93°11′11″ W; to lat. 31°19′17″ N, long. 93°20′16″ W; to lat. 31°24′31″ N, long. 93°20′16″ W; to lat. 31°24′31″ N, long. 93°16′43″ W; to lat. 31°23′36″ N, long. 93°13′25″ W; to the point of beginning.

Designated altitudes. FL 180 to but not including FL 350.

Time of designation. By NOTAM issued at least 24 hours in advance.

Controlling agency. FAA, Houston ARTCC.

Using agency. U.S. Army, Joint Readiness Training Center, Fort Polk, LA.

R-3803C Fort Polk, LA [New]

Boundaries. Beginning at lat. 31°19′17″ N, long. 93°10′31″ W; to lat. 31°17′39″ N, long. 93°11′07″ W; to lat. 31°14′25″ N, long. 93°12′17″ W; to lat. 31°14′25″ N, long. 93°14′40″ W; to lat. 31°15′32″ N, long. 93°14′40″ W; to lat. 31°15′32″ N, long. 93°17′00″ W; to lat. 31°19′17″ N, long. 93°17′00″ W; to the point of beginning.

Designated altitudes. Surface to but not including FL 180.

Time of designation. By NOTAM issued at least 4 hours in advance.

Controlling agency. FAA, Houston ARTCC.

Using agency. U.S. Army, Joint Readiness Training Center, Fort Polk, LA.

R-3803D Fort Polk, LA [New]

Boundaries. Beginning at lat. 31°19′17″ N, long. 93°03′29″ W; to lat. 31°14′53″ N, long. 93°03′30″ W; to lat. 31°14′52″ N, long. 93°08′52″ W; to lat. 31°14′51″ N, long. 93°10′07″ W; to lat. 31°14′25″ N, long. 93°10′06″ W; to lat. 31°14′25″ N, long. 93°12′17″ W; to lat. 31°17′39″ N, long. 93°11′07″ W; to lat. 31°19′17″ N, long. 93°10′31″ W; to the point of beginning, excluding the airspace area from the surface to and including 1,200 feet AGL beginning at lat. 31°14′52″ N, long. 93°08′52″ W; at lat. 31°14′51″ N, long. 93°10′07″ W; at lat. 31°14′25″ N, long. 93°10′06″ W; at lat. 31°14′25″ N, long. 93°12′17″ W; at lat. 31°17′39″ N, long. 93°11′07″ W; at lat. 31°17′04″ N, long. 93°10′22″ W; at lat. 31°16′11″ N, long. 93°10′22″ W; to the point of beginning of the excluded area.

Designated altitudes. Surface to but not including FL 180.

Time of designation. By NOTAM issued at least 4 hours in advance.

Controlling agency. FAA, Houston ARTCC.

Using agency. U.S. Army, Joint Readiness Training Center, Fort Polk, LA.

R-3803E Fort Polk, LA [New]

Boundaries. Beginning at lat. 31°19′17″ N, long. 93°10′31″ W; to lat. 31°17′39″ N, long. 93°11′07″ W; to lat. 31°14′25″ N, long. 93°12′17″ W; to lat. 31°14′25″ N, long. 93°14′40″ W; to lat. 31°15′32″ N, long. 93°14′40″ W; to lat. 31°15′32″ N, long. 93°17′00″ W; to lat. 31°19′17″ N, long. 93°17′00″ W; to the point of beginning.

Designated altitudes. FL 180 to but not including FL 350.

Time of designation. By NOTAM issued at least 24 hours in advance.

Controlling agency. FAA, Houston ARTCC.

Using agency. U.S. Army, Joint Readiness Training Center, Fort Polk, LA.

R-3803F Fort Polk, LA [New]

Boundaries. Beginning at lat. 31°19′17″ N, long. 93°03′29″ W; to lat. 31°14′53″ N, long. 93°03′30″ W; to lat. 31°14′52″ N, long. 93°08′52″ W; to lat. 31°14′51″ N, long. 93°10′07″ W; to lat. 31°14′25″ N, long. 93°10′06″ W; to lat. 31°14′25″ N, long. 93°12′17″ W; to lat. 31°17′39″ N, long. 93°11′07″ W; to lat. 31°19′17″ N, long. 93°10′31″ W; to the point of beginning.

Designated altitudes. FL 180 to but not including FL 350.

Time of designation. By NOTAM issued at least 24 hours in advance.

Controlling agency. FAA, Houston ARTCC.

Using agency. U.S. Army, Joint Readiness Training Center, Fort Polk, LA.

Issued in Washington, DC, on July 10, 2019.
Rodger A. Dean Jr.,
Manager, Airspace Policy Group.

[FR Doc. 2019-15119 Filed 7-15-19; 8:45 am]

BILLING CODE 4910-13-P